DEPARTMENT OF ENERGY

Federal Energy Regulatory Commission

Combined Notice of Filings

Take notice that the Commission has received the following Natural Gas Pipeline Rate and Refund Report filings:

Docket Numbers: RP20-1096-000.

Applicants: Equitrans, L.P.

Description: § 4(d) Rate Filing: Negotiated Rate Agreement—BP 8/14/2020 to be effective 8/14/2020.

Filed Date: 8/13/20.

Accession Number: 20200813-5084.

Comments Due: 5 p.m. ET 8/25/20.

Docket Numbers: RP19-1523-009.

Applicants: Panhandle Eastern Pipe Line Company, LP.

Description: Compliance filing Compliance with RP19-1523 Order on Arguments and Compliance to be effective 3/1/2020.

Filed Date: 8/14/20.

Accession Number: 20200814-5059.

Comments Due: 5 p.m. ET 8/26/20.

Docket Numbers: RP20-1097-000.

Applicants: Dominion Energy Questar Pipeline, LLC.

Description: § 4(d) Rate Filing: Non-conforming TSAs—Questar Gas Company to be effective 10/1/2020.

Filed Date: 8/14/20.

Accession Number: 20200814-5056.

Comments Due: 5 p.m. ET 8/26/20.

Docket Numbers: RP20-1098-000.

Applicants: Gulfstream Natural Gas System, L.L.C.

Description: § 4(d) Rate Filing: FTS FOSA Modification to be effective 9/14/2020.

Filed Date: 8/14/20.

Accession Number: 20200814-5063.

Comments Due: 5 p.m. ET 8/26/20.

Docket Numbers: RP20-1099-000.

Applicants: Kern River Gas Transmission Company.

Description: § 4(d) Rate Filing: 2020 Questar Peaking Negotiated Rate Agreement to be effective 9/15/2020.

Filed Date: 8/14/20.

Accession Number: 20200814-5066.

Comments Due: 5 p.m. ET 8/26/20.

Docket Numbers: RP20-1100-000.

Applicants: Empire Pipeline, Inc.

Description: § 4(d) Rate Filing: Empire North EPCR Rates for Full In-Service to be effective 9/15/2020.

Filed Date: 8/14/20.

Accession Number: 20200814-5080.

Comments Due: 5 p.m. ET 8/26/20.

Docket Numbers: RP20-980-002.

Applicants: East Tennessee Natural Gas, LLC.

Description: Compliance filing ETNG Compliance Filing—RP20-980 to be effective 8/1/2020.

Filed Date: 8/14/20.

Accession Number: 20200814-5142.

Comments Due: 5 p.m. ET 8/26/20.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 17, 2020.
Nathaniel J. Davis, Sr.,
Deputy Secretary.

[FR Doc. 2020-18507 Filed 8-21-20; 8:45 am]

BILLING CODE 6717-01-P